DEPARTMENT OF THE TREASURY

Internal Revenue Service

Recruitment Notice for the Taxpayer Advocacy Panel; Correction

AGENCY: Internal Revenue Service (IRS), Treasury.

ACTION: Correction to notice.

SUMMARY: This document corrects a notice that was published in the Federal Register on Thursday, March 3, 2005 (70 FR 10477), relating to the Department of Treasury and the Internal Revenue Service (IRS) invitation to individuals to help improve the nation's tax agency by applying to be members and alternates of the TAP.

FOR FURTHER INFORMATION CONTACT: Bernard Coston, (202) 622-5007 (not a toll-free number).

SUPPLEMENTARY INFORMATION:

Need for Correction

As published, this notice contains an error that may prove to be misleading and is in need of clarification.

Correction of Publication

Accordingly, the publication of the notice, which was the subject of FR Doc. 05-4144, is corrected as follows:

On page 10478, column 1, first full paragraph, line 5, the language “number, 1-866-912-1227 to complete” is corrected to read “number, 1-888-912-1227 to complete”.

Cynthia E. Grigsby,
Acting Chief, Publications and Regulations Branch, Legal Processing Division, Associate Chief Counsel (Procedures and Administration).

[FR Doc. 05-5209 Filed 3-11-05; 2:17 pm]

BILLING CODE 4830-01-P